DEPARTMENT OF ENERGY

Office of Energy Efficiency and Renewable Energy

Offshore Renewable Energy; Public Meeting on Information Needs for Resource Assessment and Design Conditions

AGENCY: Office of Energy Efficiency and Renewable Energy, Department of Energy (DOE).

ACTION: Notice of public meeting.

SUMMARY: This notice announces a public meeting for interested parties to provide DOE information on existing needs for acquiring meteorological and oceanographic information to support cost-effective deployment of offshore renewable energy plants, particularly wind and marine hydrokinetic (MHK) technologies.

DATES: The meeting will be held Thursday, June 23, 2011, from 8:30 a.m. to 5:30 p.m., and Friday, June 24, 2011, 8:30 a.m. to 12 p.m.

ADDRESSES: Hyatt Regency Crystal City, 2799 Jefferson Davis Hwy., Arlington, VA 22202.

FOR FURTHER INFORMATION CONTACT: Stan Calvert at stan.calvert@ee.doe.gov.

SUPPLEMENTARY INFORMATION: The purpose of the meeting is for DOE to obtain input regarding the development of accurate meteorological and oceanographic information for evaluating the energy potential, economic viability, and engineering requirements of offshore project sites. The meeting is an opportunity for participants to provide, based on their individual experience, individual information and facts regarding this topic. It is not the object of this session to obtain any group position or consensus. Rather, the Department is seeking as many recommendations as possible from all individuals at this meeting.

The public meeting will consist of an initial plenary session in which invited speakers will survey information availability and needs for various applications related to offshore renewable energy. For the remainder of the meeting, breakout groups will be used to provide participants an opportunity to present to DOE information on the specified areas regarding existing gaps in observations and computational products. These groups will be an opportunity to provide comment on information needs for the following applications:

1. Forecasting

Initialize, constrain, and improve appropriate forecast models addressing periods of hours to days ahead for winds, waves, and currents.

2. Energy Projections/Performance Monitoring

Estimate energy to be produced by an offshore renewable energy plant. Once plants are in place, information would also be required to evaluate the plants actual production and determine causes for changes in its performance.

3. Technology Design and Validation

Design and validate energy devices for the marine environment that would predictably withstand physical loads on energy devices in the marine environment while operating at optimum efficiency.

4. Facility Design

Effectively design offshore energy plants as a whole, including designs that would account for interactions among individual devices and for siting issues.

5. Operations Planning/Site Safety

Effectively schedule and execute O&M activities, including safe facility access and response to extreme events.

The meeting is intended to hear from experts involved in planning, deployment, operation, and regulation of offshore wind and marine hydrokinetic energy, experts involved in meteorological and oceanic disciplines relevant to offshore energy, as well as the interested public. However, the meeting will not focus on environmental impact or management issues, which are being addressed by separate efforts. While participation is open to all interested parties, the breakout structure of the meeting will limit its overall size to about 100 participants. When the meeting is fully subscribed, registration will be closed.

To register, please visit http://www.sentech.org/Offshore_RADC_Meeting/.

Tentative Agenda (Subject To Change)

Day 1

7:30 a.m.-8:30 a.m.

Registration and continental breakfast

8:30 a.m.-10:15 a.m.

Welcome and plenary session

10:15 a.m.-10:30 a.m.

Break

10:30 a.m.-12:30 p.m.

First breakout sessions

12:30 p.m.-1:30 p.m.

Lunch

1:30 p.m.-3:30 p.m.

Second breakout sessions

3:30 p.m.-4:30 p.m.

Break

4:30 p.m.-5:30 p.m.

Plenary session—breakout reports

Day 2

8 a.m.-8:30 a.m.

Continental breakfast

8:30 a.m.-10:30 a.m.

Third breakout sessions

10:30 a.m. -11 a.m.

Break

11 a.m.-12 p.m.

Closing plenary: breakout reports and closing comments

Registration and Accommodations

A room-block for meeting participants has been established at the Hyatt Regency Crystal City. The room block is limited and is not guaranteed after Friday, June 10.

Issued in Washington, DC, on June 7, 2011.
Mark A. Higgins,
Acting Program Manager, Wind and Hydropower Technologies, Energy Efficiency and Renewable Energy, Department of Energy.

[FR Doc. 2011-14659 Filed 6-13-11; 8:45 am]

BILLING CODE 6450-01-P